DEPARTMENT OF THE INTERIOR

Minerals Management Service

MMS Information Collection Activity: 1010-0082, 30 CFR Part 281, Leasing of Minerals Other Than Oil, Gas and Sulphur in the Outer Continental Shelf, Reinstatement—Not Violation of a Collection; Submitted for Office of Management and Budget (OMB) Review; Comment Request

AGENCY: Minerals Management Service (MMS), Interior.

ACTION: Notice of a reinstatement of an information collection (1010-0082).

SUMMARY: To comply with the Paperwork Reduction Act of 1995 (PRA), we are notifying the public that we have submitted to OMB an information collection request (ICR) to renew approval of the paperwork requirements in the regulations under 30 CFR part 281, Leasing of Minerals Other than Oil, Gas, and Sulphur in the Outer Continental Shelf. This notice also provides the public a second opportunity to comment on the paperwork burden of these regulatory requirements.

DATES: Submit written comments by August 27, 2008.

ADDRESSES: You should submit comments directly to the Office of Information and Regulatory Affairs, OMB, Attention: Desk Officer for the Department of the Interior (1010-0082), either by fax (202) 395-6566 or e-mail (OIRA_DOCKET@omb.eop.gov).

Please also send a copy to MMS by mail or hand-carry comments to the Department of the Interior, Minerals Management Service, Attention: Cheryl Blundon, 381 Elden Street, MS-4024, Herndon, Virginia 20170-4817. Please reference “Information Collection 1010-0082” in your subject line and mark your message for return receipt. Include your name and return address in your message text.

FOR FURTHER INFORMATION CONTACT: Cheryl Blundon, Regulations and Standards Branch, (703) 787-1607. You may also contact Cheryl Blundon to obtain a copy, at no cost, of the regulations that require the subject collection of information.

SUPPLEMENTARY INFORMATION: Title: 30 CFR part 281, Leasing of Minerals Other than Oil, Gas, and Sulphur in the Outer Continental Shelf.

OMB Control Number: 1010-0082.

Abstract: Section 8(k) of the Outer Continental Shelf (OCS) Lands Act, as amended (43 U.S.C. 1337), authorizes the Secretary of the Interior (Secretary) to grant to the qualified persons, offering the highest cash bonuses on a basis of competitive bidding, leases of any mineral other than oil, gas, and sulphur in any area of the OCS not then under lease for such mineral upon such royalty, rental, and other terms and conditions as the Secretary may prescribe at the time of offering the area for lease. The Secretary is to administer the leasing provisions of the Act and prescribe the rule and regulations necessary to carry out those provisions.

Regulations implementing these responsibilities are under 30 CFR part 281. Responses are mandatory or required to obtain or retain a benefit. No questions of a sensitive nature are asked. The MMS protects information considered proprietary according to the Freedom of Information Act (5 U.S.C. 552) and its implementing regulations (43 CFR part 2, and 30 CFR parts 280 and 282).

The MMS would use the information required by 30 CFR part 281 to determine if statutory requirements are met prior to the issuance of a lease. Specifically, MMS would use the information to:

• Evaluate the area and minerals requested by the lessee to assess the viability of offering leases for sale.

• Request the State(s) to initiate the establishment of a joint working group or task force to assess the proposed action and provide input.

• Ensure excessive overriding royalty interests are not created that would put economic constraints on all parties involved.

• Document that a leasehold or geographical subdivision has been surrendered by the record title holder.

• Determine if activities on the proposed lease area(s) will have significant impact on the environment.

There has been no activity in the OCS for minerals other than oil, gas and sulphur for many years and no information collected since we allowed the OMB approval to expire in 1991. However, because these are regulatory requirements, the potential exists for information to be collected, and we are requesting that OMB reinstate this collection of information.

Frequency: On occasion.

Estimated Number and Description of Respondents: There are no active respondents; therefore, we estimated the potential annual number of respondents to be one.

Estimated Reporting and Recordkeeping “Hour” Burden: The estimated annual “hour” burden for this information collection is a total of 1,248 hours. The following chart details the individual components and estimated hour burdens. In calculating the burdens, we assumed that respondents perform certain requirements in the normal course of their activities. We consider these to be usual and customary and took that into account in estimating the burden.

Citation 30 CFR 281 | Reporting and/or recordkeeping requirements | Hour burden | Average number of annual reponses | Annual burden hours
|  | Non-hour cost burden(s)
Subpart A—General
6 | Appeal decisions | Exempt under 5 CFR 1320.4(a)(2), (c) |  | 0
Subpart B—Leasing Procedures
11(a), (c) | Request approval for mineral lease with relevant information | 60 | 1 | 60
All sections | Submit response to Call for Information and Interest on areas for leasing of minerals (other than oil, gas, sulphur) in accordance with approved lease program, including information from States/local governments | 120 | 1 | 120
13 | States or local governments submit comments/recommendations on planning, coordination, consultation, and other issues that may contribute to the leasing process | 200 | 1 | 200
All sections | Submit suggestions and relevant information in response to request for comments on proposed lease including information from States/local governments | 160 | 1 | 160
18(a), (b), (c); 20(e), (f); 26(a) | Submit bids (oral or sealed) and required information | 250 | 1 | 250
18(c); 20(e), (f) | Tie bids—submit oral bids for highest bidder | 20 | 1 | 20
20(a), (b), (c); 41(a) | Establish a Company File for qualification; submit updated information, submit qualifications for lessee/bidder | 58 | 1 | 58
21(a); 47(c) | Request for reconsideration of bid rejection/cancellation | Requirement not considered IC per 5 CFR 1320.3(h)(9) |  | 0
Subtotal | 7 | 868

Citation 30 CFR 281 | Reporting and/or recordkeeping requirements | Hour burden | Average number of annual reponses | Annual burden hours
|  | Non-hour cost burden(s)
Subpart C—Financial Considerations
26; 21(b), (e); 40(b); 41(b) | Execute lease (includes submission of evidence of authorized agent and request for dating of leases) | 100 | 1 | 100
31(b); 41 | File application and required information for assignment or transfer for approval | 160 | 1 | 160
|  | $50 required or non-required filing document fee × 1 = $50
32(b), (c) | File application for waiver, suspension, or reduction and supporting documentation | 80 | 1 | 80
33; 41(c) | Submit surety or personal bond | Burden covered under 1010-0081 |  | 0
Subtotal | 3 | 340
| $50 non-hour cost burden
Subpart E—Terminaton of Leases
46(a) | File written request for relinquishment | 40 | 1 | 40
Total Burden | 11 | 1,248
| $50 non-hour cost burden

Estimated Reporting and Recordkeeping “Non-Hour Cost” Burden: We have identified one non-hour cost burden. In § 281.41, respondents would pay a $50 application fee for any instrument to be filed (see the burden table). We have identified no other non-hour cost burdens for this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on September 24, 2007, we published a Federal Register notice (72 FR 54283) announcing that we would submit this ICR to OMB for approval. The notice provided the required 60-day comment period. In addition, § 282.0 provides the OMB control number for the information collection requirements imposed by the 30 CFR part 282 regulations. The PRA (5 U.S.C. 1320) informs the public that they may comment at any time on the collection of information and MMS provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by August 27, 2008.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

May 15, 2008.
E.P. Danenberger,
Chief, Office of Offshore Regulatory Programs.

[FR Doc. E8-17185 Filed 7-25-08; 8:45 am]

BILLING CODE 4310-MR-P